DEPARTMENT OF HEALTH AND HUMAN SERVICES

National Institutes of Health

Draft NTP Technical Reports on Toxicology and Carcinogenesis Studies of HMB and PFOA; Availability of Documents; Request for Comments; Notice of Peer-Review Meeting

AGENCY: National Institutes of Health, HHS.

ACTION: Notice.

SUMMARY: The National Toxicology Program (NTP) announces the availability of two draft NTP Technical Reports on toxicology and carcinogenesis studies scheduled for peer review for the following substances: 2-hydroxy-4-methoxybenzophenone and perfluorooctanoic acid. The peer-review meeting will be held by webcast only and available to the public for remote viewing. Registration is required for attendance by webcast and to present oral comments. Information about the meeting and registration is available at https://ntp.niehs.nih.gov/go/36051.

DATES:

Meeting: December 12, 2019, 10:00 a.m. Eastern Standard Time (EST) to adjournment. The meeting may end earlier or later than 5:00 p.m. EST.

Document Availability: The two draft NTP reports will be available by October 15, 2019 at https://ntp.niehs.nih.gov/go/36051.

Written Public Comment Submissions: Deadline is November 20, 2019.

Registration for Oral Comments: Deadline is December 3, 2019.

Registration to View Webcast: Deadline is December 12, 2019.

ADDRESSES:

Meeting Location: Webcast.

Meeting Web Page: The draft reports, preliminary agenda, registration, and other meeting materials will be available at https://ntp.niehs.nih.gov/go/36051.

Webcast: The URL for viewing the peer-review meeting webcast will be provided to registrants.

FOR FURTHER INFORMATION CONTACT: Email NTP-Meetings@icf.com. Dr. Elizabeth Maull, NIEHS/DNTP, is the Designated Federal Official. Phone: (984) 287-3157, Fax: (301) 480-3008. Email: maull@niehs.nih.gov.

SUPPLEMENTARY INFORMATION:

Meeting Attendance Registration: The meeting is open to the public with time set aside for oral public comment. Registration to view the webcast is by December 12, 2019, at https://ntp.niehs.nih.gov/go/36051. The URL for the webcast will be provided in the email confirming registration. Individuals with disabilities who need accommodation to view the webcast should contact Sophie Hearn by phone: (919) 293-1648 or email: NTP-Meetings@icf.com. TTY users should contact the Federal TTY Relay Service at (800) 877-8339. Requests should be made at least five business days in advance of the event.

Request for Comments: NTP invites written and oral public comments on the draft reports that address scientific or technical issues. Guidelines for public comments are available at https://ntp.niehs.nih.gov/ntp/about_ntp/guidelines_public_comments_508.pdf.

The deadline for submission of written comments is November 20, 2019, to enable review by the peer-review panel and NTP staff prior to the meeting. Written public comments should be submitted through the meeting website at https://ntp.niehs.nih.gov/go/36051. Persons submitting written comments should include name, affiliation, mailing address, phone, email, and sponsoring organization (if any). Written comments received in response to this notice will be posted on the NTP website and the submitter will be identified by name, affiliation, and sponsoring organization (if any). Comments that address scientific/technical issues will be forwarded to the peer-review panel and NTP staff prior to the meeting.

Oral public comment at this meeting is welcome, with time set aside for the presentation of oral comments on the draft reports. The agenda will allow for two oral public comment periods—one comment period per report (up to 6 commenters, up to 5 minutes per speaker). Persons wishing to make an oral comment are required to register online at https://ntp.niehs.nih.gov/go/36051 by December 3, 2019. Registration is on a first-come, first served basis. Each organization is allowed one time slot per report. The access number for the teleconference line will be provided to registrants by email prior to the meeting. Commenters will be notified approximately one week before the peer-review meeting about the actual time allotted per speaker.

If possible, oral public commenters should send a copy of their slides and/or statement or talking points to Sophie Hearn by email: NTP-Meetings@icf.com by December 3, 2019. Written statements can supplement and may expand the oral presentation.

Meeting Materials: The draft NTP reports and preliminary agenda will be available on the NTP website at https://ntp.niehs.nih.gov/go/36051 prior to the meeting. NTP expects that the draft reports should be available on the website by October 15, 2019. Additional information will be posted when available or may be requested in hardcopy from Sophie Hearn by phone: (919) 293-1648 or email: NTP-Meetings@icf.com. Individuals are encouraged to access the meeting web page to stay abreast of the most current information regarding the meeting.

Following the meeting, a report of the peer review will be prepared and made available on the NTP website.

Background Information on NTP Peer-Review Panels: NTP panels are technical, scientific advisory bodies established on an “as needed” basis to provide independent scientific peer review and advise NTP on agents of public health concern, new/revised toxicological test methods, or other issues. These panels help ensure transparent, unbiased, and scientifically rigorous input to the program for its use in making credible decisions about human hazard, setting research and testing priorities, and providing information to regulatory agencies about alternative methods for toxicity screening. NTP welcomes nominations of scientific experts for upcoming panels. Scientists interested in serving on an NTP panel should provide their current curriculum vitae to Sophie Hearn by email: NTP-Meetings@icf.com.

The authority for NTP panels is provided by 42 U.S.C. 217a; section 222 of the Public Health Service Act, as amended. The panel is governed by the Federal Advisory Committee Act, as amended (5 U.S.C. Appendix 2), which sets forth standards for the formation and use of advisory committees.

This peer review is being conducted by a panel via webcast. Peer-review of future draft reports will be conducted in accordance with Department of Health and Human Services peer-review policies (https://aspe.hhs.gov/hhs-information-quality-peer-review) and Office of Management and Budget's Final Information Quality Bulletin for Peer Review (70 FR 2664, January 4, 2005).

Dated: September 27, 2019.
Brian R. Berridge,
Associate Director, National Toxicology Program.

[FR Doc. 2019-22273 Filed 10-10-19; 8:45 am]

BILLING CODE 4140-01-P